ENVIRONMENTAL PROTECTION AGENCY

[MN88; FRL-8975-1]

Notice of Issuance Federal Operating Permit to Grand Casino Mille Lacs

AGENCY: Environmental Protection Agency (EPA).

ACTION: Notice.

SUMMARY: This notice announces that, on August 27, 2009, pursuant to Title V of the Clean Air Act, EPA issued a Title V Permit to Operate (Title V permit) to Mille Lacs Band Corporate Commission (Grand Casino Mille Lacs). This permit authorizes Grand Casino Mille Lacs to operate its four diesel-fired generator sets (generators) at its facility (Facility) in Onamia, Minnesota. The electricity produced from the generators can be used for peak load management, as well as backup power for the Grand Casino Mille Lacs Resort and Hotel, which is located on lands held in trust for the Mille Lacs Band of Ojibwe Indians, and which is located within the boundaries of the Mille Lacs Indian Reservation.

DATES: During the public comment period, which ended August 12, 2009, EPA received no comments on the draft Title V permit. Therefore, in accordance with 40 CFR 71.11(i)(2)(iii), this permit became effective immediately upon permit issuance, August 27, 2009.

ADDRESSES: The final signed permit is available for public inspection online at http://yosemite.epa.gov/r5/r5ard.nsf/ Tribal+Permits!OpenView, or during normal business hours at the following address: EPA, Region 5, 77 West Jackson Boulevard (AR-18J), Chicago, Illinois 60604.

FOR FURTHER INFORMATION CONTACT: Richard Angelbeck, Environmental Scientist, EPA, Region 5, 77 W. Jackson Boulevard (AR-18J), Chicago, Illinois 60604, (312) 886-9698, or angelbeck.richard@epa.gov.

SUPPLEMENTARY INFORMATION: This supplemental information is organized as follows:

A. What Is the Background Information?

B. What Is the Purpose of this Notice?

A. What Is the Background Information?

The four diesel-fired generators are owned by Grand Casino Mille Lacs. The total generation capacity of the generators is 6.6 megawatts. The electricity produced from the generators can be used for peak load management, as well as backup power, and is not sold for distribution.

Since the potential emissions from the existing three generators were estimated to be greater than 250 tons per year (tpy) for nitrogen oxides (NOX), in accordance with 40 CFR 52.21(b)(1), the Facility is considered a major stationary source and subject to the Prevention of Significant Deterioration (PSD) permitting requirements. As required by 40 CFR part 52, Grand Casino Mille Lacs applied to EPA for a PSD permit for the original three generators and conducted a Best Available Control Technology (BACT) analysis, an air quality analysis, and the additional impact analyses. EPA received the permit application on October 13, 2006. The Federal PSD construction permit (No. PSD-ML-R50007-05-01) that EPA issued to the Facility contained all applicable part 52 requirements. Within this permit, the Facility also chose to accept a 300-hour per year operating limit per generator, restricting the Facility's potential to emit (PTE) emissions.

Since Grand Casino Mille Lacs is considered a major source, was issued a PSD permit, and is located on tribal land, in accordance with 40 CFR 71.3(a), the Facility is subject to Title V permitting requirements of 40 CFR part 71.

The construction of the fourth generator did not trigger PSD for two reasons. First, the 2005 PSD permit established a facility-wide PTE for all regulated pollutants, before the fourth generator was installed, of less than 250 tpy (i.e., not a major source), so that the addition of the fourth generator did not constitute a modification to a major stationary source. In addition, the PTE of the fourth generator is 209 tpy which is also below the 250-ton PSD threshold for a major source. In its part 71 permit application, Grand Casino Mille Lacs requested that EPA incorporate the original three generator sets, as well as the fourth generator, into this Title V permit. As noted above, the original three generators each have an annual operating restriction of 300 hours per year. The fourth generator does not have any legal restriction on hours of operation. The maximum, unrestricted emissions for the fourth generator is 209 tpy of NOX.

On July 12, 2009, EPA made available for public comment a draft Federal Title V Permit to Operate (No. V-ML-2709500005-2009-01). This Title V permit incorporated all applicable air quality requirements for the four generators, including the monitoring necessary to ensure compliance with these requirements. In accordance with the requirements of 40 CFR 71.11(d), EPA provided the public with 30 days to comment on the draft permit. Since EPA did not receive any written comments, EPA finalized the permit and provided copies to the applicant pursuant to 40 CFR 71.11(i).

EPA is not aware of any outstanding enforcement actions against Grand Casino Mille Lacs and believes the issuance of this permit is non-controversial.

B. What Is the Purpose of This Notice?

EPA is notifying the public of the issuance of the Title V permit to Grand Casino Mille Lacs on August 27, 2009. Because EPA received no comments on the draft Title V permit, it became effective immediately upon issuance, pursuant to 40 CFR 71.11(i)(2)(iii).

Dated: October 19, 2009.
Walter W. Kovalick Jr.,
Acting Regional Administrator, Region 5.

[FR Doc. E9-26413 Filed 11-2-09; 8:45 am]

BILLING CODE 6560-50-P